DEPARTMENT OF THE INTERIOR

Bureau of Land Management

[LLCA942000 L57000000.BX0000 15X L5017AR]

Filing of Plats of Survey: California

AGENCY: Bureau of Land Management, Interior.

ACTION: Notice of official filing.

SUMMARY: The plats of survey of lands described in this notice are scheduled to be officially filed in the Bureau of Land Management (BLM), California State Office, Sacramento, California. The surveys, which were executed at the request of Bureau of Indian Affairs, U.S. Forest Service, and the BLM, are necessary for the management of these lands.

DATES: Protests must be received by the BLM by July 28, 2017.

ADDRESSES: A copy of the plats may be obtained from the Bureau of Land Management, California State Office, 2800 Cottage Way W-1623, Sacramento, California 95825, upon required payment. Please use this address when filing written protests.

FOR FURTHER INFORMATION CONTACT: Jon Kehler, Chief, Branch of Cadastral Survey, Bureau of Land Management, California State Office, 2800 Cottage Way W-1623, Sacramento, California 95825; 1-916-978-4310; jkehler@blm.gov. Persons who use a telecommunications device for the deaf may call the Federal Relay Service (FRS) at 1-800-877-8339 to contact the above individual during normal business hours. The FRS is available 24 hours a day, 7 days a week, to leave a message or question with the above individual. You will receive a reply during normal business hours.

SUPPLEMENTARY INFORMATION: The lands surveyed are:

Mount Diablo Meridian, California

T. 5 N., R. 13 E., dependent resurvey and subdivision, accepted December 5, 2016.

T. 10 N., R. 21 E., dependent resurvey, accepted January 31, 2017.

T. 10 N., R. 22 E., dependent resurvey, accepted January 31, 2017.

T. 11 N., R. 21 E., dependent resurvey and subdivision, accepted February 2, 2017.

T. 41 N., R. 9 E., dependent resurvey and subdivision, accepted February 1, 2017.

A person or party who wishes to protest a survey must file a notice that they wish to protest with the Chief, Branch of Cadastral Survey. A statement of reasons for a protest may be filed with the notice of protest and must be filed with the Chief, Branch of Cadastral Survey, within 30 days after the protest is filed. If a protest against the survey is received prior to the date of official filing, the filing will be stayed pending consideration of the protest. A plat will not be officially filed until the day after all protests have been dismissed or otherwise resolved.

Before including your address, phone number, email address, or other personal identifying information in your comment, you should be aware that your entire comment—including your personal identifying information—may be made publicly available at any time. While you can ask us in your comment to withhold your personal identifying information from public review, we cannot guarantee that we will be able to do so.

Authority: 43 U.S.C., Chapter 3.

Jon L. Kehler,
Chief Cadastral Surveyor, California.

[FR Doc. 2017-13538 Filed 6-27-17; 8:45 am]

BILLING CODE 4310-40-P